DEPARTMENT OF COMMERCE

International Trade Administration

[C-570-041]

Truck and Bus Tires From the People's Republic of China: Preliminary Results of Countervailing Duty Administrative Review and Rescission of Review in Part, 2022

AGENCY: Enforcement and Compliance, International Trade Administration, Department of Commerce.

SUMMARY: The U.S. Department of Commerce (Commerce) preliminarily determines that countervailable subsidies were provided to producers and exporters of truck and bus tires from the People's Republic of China (China), during the period of review (POR) from January 1, 2022, through December 31, 2022. In addition, Commerce is rescinding the review, in part, with respect to 15 companies. Interested parties are invited to comment on these preliminary results.

DATES: Applicable February 13, 2024.

FOR FURTHER INFORMATION CONTACT: Ted Pearson, AD/CVD Operations, Enforcement and Compliance, International Trade Administration, U.S. Department of Commerce, 1401 Constitution Avenue NW, Washington, DC 20230; telephone: (202) 482-2631.

SUPPLEMENTARY INFORMATION:

Background

On February 15, 2019, Commerce published in the Federal Register the countervailing duty order on truck and bus tires from China.¹ On February 2, 2023, Commerce published in the Federal Register the notice of initiation of an administrative review of the Order.² On May 19, 2022, Commerce selected Qingdao Ge Rui Da Rubber Co., Ltd. and Bridgestone (Shenyang) Tire Co., Ltd. (Bridgestone Shenyang) for individual examination as the mandatory respondents in this administrative review.³ On June 12, 2023, Bridgestone Corporation, Bridgestone Tire Co. Ltd. (Bridgestone Tire), and Bridgestone Shenyang (collectively, Bridgestone Companies) withdrew their request for administrative review.⁴ On June 20, 2023, we selected Jiangsu Hankook Tire Co., Ltd. (Jiangsu Hankook) for individual examination.⁵ On July 3, 2023, Jiangsu Hankook withdrew its request for review.⁶ On September 8, 2023, we selected Jiangsu General Science Technology Co., Ltd. (General Science) for individual examination and requested that the GOC forward the initial questionnaire.⁷ On September 29, 2023, Commerce extended the deadline for the preliminary results of review by 100 days, until February 8, 2024.⁸

¹ See Truck and Bus Tires from the People's Republic of China: Amended Final Determination and Countervailing Duty Order, 84 FR 4434 (February 15, 2019) (Order).

² See Initiation of Antidumping and Countervailing Duty Administrative Reviews, 88 FR 21609 (April 11, 2023).

³ See Memorandum, “Respondent Selection,” dated June 2, 2023.

⁴ See Bridgestone Companies' Letter, “Withdrawal of Request for Administrative Review,” dated June 12, 2023.

⁵ See Memorandum, “Second Respondent Selection,” dated June 20, 2023.

⁶ See Jiangsu Hankook's Letter, “Withdrawal of Request for Administrative Review,” dated July 3, 2023.

⁷ See Commerce's Letter, “Second Selection of Additional Mandatory Respondent,” dated September 8, 2023.

⁸ See Memorandum, “Extension of Deadline for Preliminary Results of Countervailing Duty Administrative Review; 2021,” dated September 29, 2023.

For a complete description of the events that followed the initiation of this review, see the Preliminary Decision Memorandum.⁹ A list of topics discussed in the Preliminary Decision Memorandum is included as Appendix I to this notice. The Preliminary Decision Memorandum is a public document and is on file electronically via Enforcement and Compliance's Antidumping and Countervailing Duty Centralized Electronic Service System (ACCESS). ACCESS is available to registered users at http://access.trade.gov. In addition, a complete version of the Preliminary Decision Memorandum can be accessed directly at https://access.trade.gov/public/FRNoticesListLayout.aspx.

⁹ See Memorandum, “Decision Memorandum for the Preliminary Results of Countervailing Duty Administrative Review and Recission of Review in Part; 2022: Truck and Bus Tires from the People's Republic of China,” dated concurrently with, and hereby adopted by, this notice (Preliminary Decision Memorandum).

Scope of the Order

The products covered by the Order are truck and bus tires. For a complete description of the scope of the Order, see the Preliminary Decision Memorandum.¹⁰

¹⁰ See Preliminary Decision Memorandum.

Methodology

Commerce is conducting this administrative review in accordance with section 751(a)(1)(A) of the Tariff Act of 1930, as amended (the Act). For each subsidy program found countervailable, we preliminarily find that there is a subsidy, (i.e., a government-provided financial contribution that gives rise to a benefit to the recipient, and that the subsidy is specific).¹¹ For a full description of the methodology underlying our conclusions, including our reliance, in part, on adverse facts available pursuant to sections 776(a) and (b) of the Act, see the Preliminary Decision Memorandum.

¹¹ See sections 771(5)(B) and (D) of the Act regarding financial contribution; section 771(5)(E) of the Act regarding benefit; and section 771(5A) of the Act regarding specificity.

Rescission of Administrative Review, in Part

Pursuant to 19 CFR 351.213(d)(1), Commerce will rescind an administrative review, in whole or in part, if the parties that requested a review withdraw the request within 90 days of the date of publication of the notice of initiation. Commerce received timely-filed withdrawal requests with respect to 15 companies, pursuant to 19 CFR 351.213(d)(1).¹² Because the withdrawal requests were timely filed, and no other parties requested a review of these companies, in accordance with 19 CFR 351.213(d)(1), Commerce is rescinding this review of the Order with respect to these 15 companies. For a complete list of companies, see Appendix II to this notice.

¹² See Preliminary Decision Memorandum at “Partial Rescission of Administrative Review.”

Preliminary Results of Review

Commerce preliminarily determines that the following net countervailable subsidy rates exist for the period January 1, 2022, through December 31, 2022:

¹³ As discussed in the Preliminary Decision Memorandum, Commerce has found the following companies to be cross-owned with Qingdao Ge Rui Da Tire Company: Cooper Tire (China) Investment Co. Ltd.; Cooper Tire Asia-Pacific (Shanghai) Trading Co., Ltd.; Qingdao Yiyuan Investment Co., Ltd.; Goodyear Dalian Tire Company Limited; and Goodyear Tire Management Company (Shanghai) Ltd.

Manufacturer/exporter | Subsidy rate (percent ad valorem)
Jiangsu General Science Technology Co., Ltd | 124.00
Qingdao Ge Rui Da Rubber Co., Ltd.¹³ | 10.27

Cash Deposit Requirements

In accordance with section 751(a)(2)(C) of the Act, Commerce also intends upon publication of the final results, to instruct U.S. Customs and Border Protection (CBP) to collect cash deposits of the estimated countervailing duties in the amounts calculated in the final results of this review for the respective companies listed above with regard to shipments of subject merchandise entered, or withdrawn from warehouse, for consumption on or after the date of publication of the final results of this review. If the rate calculated in the final results is zero or de minimis, no cash deposit will be required on shipments of the subject merchandise entered or withdrawn from warehouse, for consumption on or after the date of publication of the final results of this review.

For all non-reviewed firms, CBP will continue to collect cash deposits of estimated countervailing duties at the all-others rate or the most recent company-specific rate applicable to the company, as appropriate. These cash deposit requirements, when imposed, shall remain in effect until further notice.

Assessment Rates

In accordance with section 751(a)(2)(C) of the Act and 19 CFR 351.221(b)(4)(i), we preliminarily determined subsidy rates in the amounts shown above for the producers/exporters shown above. Upon completion of the administrative review, consistent with section 751(a)(1) of the Act and 19 CFR 351.212(b)(2), Commerce shall determine, and CBP shall assess, countervailing duties on all appropriate entries covered by this review.

For the companies for which this review is rescinded with these preliminary results, we will instruct CBP to assess countervailing duties on all appropriate entries at a rate equal to the cash deposit of estimated countervailing duties required at the time of entry, or withdrawal from warehouse, for consumption, during the period January 1, 2021, through December 31, 2021, in accordance with 19 CFR 351.212(c)(l)(i). For the companies remaining in the review, we intend to issue assessment instructions to CBP no earlier than 35 days after the date of publication of the final results of this review in the Federal Register.

If a timely summons is filed at the U.S. Court of International Trade, the assessment instructions will direct CBP not to liquidate relevant entries until the time for parties to file a request for a statutory injunction has expired (i.e., within 90 days of publication).

Verification

While we did not receive a request for verification, as provided in section 782(i)(3) of the Act, Commerce intends to verify the part of the information relied upon for its final results of review. Specifically, Commerce intends to verify usage of the export buyer's credit program as discussed in the Preliminary Decision Memorandum.¹⁴ Commerce intends to notify parties of its verification procedures.

¹⁴ See Preliminary Decision Memorandum at section “Application of FA and AFA: Export Buyer's Credits.”

Disclosure and Public Comment

We will disclose to parties in this review, the calculations performed for these preliminary results within five days after the date of publication of this notice.¹⁵ Case briefs or other written comments may be submitted to the Assistant Secretary for Enforcement and Compliance. Commerce will notify interested parties of the deadline for the submission of case briefs. Rebuttal briefs, limited to issues raised in case briefs, may be submitted no later than five days after the deadline date for case briefs unless otherwise modified by Commerce.¹⁶

¹⁵ See 19 CFR 351.224(b).

¹⁶ See 19 CFR 351.309(d)(1).

As provided under 19 CFR 351.309(c)(2) and (d)(2), in prior proceedings we have encouraged interested parties to provide an executive summary of their brief that should be limited to five pages total, including footnotes. In this review, we instead request that interested parties provide at the beginning of their briefs a public, executive summary for each issue raised in their briefs.¹⁷ Further, we request that interested parties limit their executive summary of each issue to no more than 450 words, not including citations. We intend to use the executive summaries as the basis of the comment summaries included in the issues and decision memorandum that will accompany the final results in this administrative review. We request that interested parties include footnotes for relevant citations in the executive summary of each issue. Note that Commerce has amended certain of its requirements pertaining to the service of documents in 19 CFR 351.303(f).¹⁸

¹⁷ We use the term “issue” here to describe an argument that Commerce would normally address in a comment of the Issues and Decision Memorandum.

¹⁸ See 19 CFR 351.309(d); see also Administrative Protective Order, Service, and Other Procedures in Antidumping and Countervailing Duty Proceedings, 88 FR 67069, 67077 (September 29, 2023).

Pursuant to 19 CFR 351.310(c), interested parties who wish to request a hearing, limited to issues raised in the case and rebuttal briefs, must submit a written request to the Assistant Secretary for Enforcement and Compliance, U.S. Department of Commerce, filed electronically using ACCESS. An electronically-filed request must be received successfully, and in its entirety, by ACCESS by 5:00 p.m. Eastern Time, within 30 days after the date of publication of this notice. Hearing requests should contain (1) the party's name, address, and telephone number, (2) the number of participants and whether any participant is a foreign national, and (3) a list of the issues to be discussed. If a request for a hearing is made, parties will be notified of the date and time for the hearing to be determined.

Unless extended, we intend to issue the final results of this administrative review, which will include the results of our analysis of the issues raised in the case briefs, within 120 days of publication of these preliminary results in the Federal Register, pursuant to section 751(a)(3)(A) of the Act and 19 CFR 351.213(h).

Notification to Interested Parties

These preliminary results and notice are issued and published in accordance with sections 751(a)(1) and 777(i)(1) of the Act, and 19 CFR 351.213 and 351.221(b)(4).

Dated: February 7, 2024.
Ryan Majerus,
Deputy Assistant Secretary for Policy and Negotiations, performing the Non-exclusive Functions and Duties of the Assistant Secretary for Enforcement and Compliance.

Appendix I—List of Topics Discussed in the Preliminary Decision Memorandum

I. Summary

II. Background

III. Scope of the Order

IV. Partial Rescission of Administrative Review

V. Diversification of China's Economy

VI. Use of Faces Otherwise Available and Application of Adverse Inferences

VII. Subsidies Valuation

VIII. Interest Rate, Discount Rate, Input, Electricity, and Land Benchmarks

IX. Analysis of Programs

X. Recommendation

Appendix II—Companies Rescinded from Review

1. Bridgestone (Shenyang) Tire Co., Ltd.

2. Bridgestone Tire Co. Ltd.

3. Chongqing Hankook Tire Co., Ltd.

4. Jiangsu Hankook Tire Co., Ltd

5. Prinx Chengshan (Shandong) Tire Company Ltd. and its cross-owned companies: Chengshan Group Co., Ltd.; Shanghai Chengzhan Information and Technology Center; Prinx Chengshan (Qingdao) Industrial Research & Design Co., Ltd.; Shandong Prinx Chengshan Tire Technology Research Co., Ltd.

6. Qingdao Fullrun Tyre Corp. Ltd.

7. Sailun Group (Hong Kong) Co., Limited

8. Sailun Group Co., Ltd.

9. Shandong Haohua Tire Co., Ltd.

10. Shandong Kaixuan Rubber Co., Ltd.

11. Shandong Linglong Tyre Co., Ltd.

12. Shandong Transtone Tyre Co., Ltd.

13. Sinotyre International Group Co., Ltd

14. Triangle Tyre Co., Ltd.

15. Weifang Shunfuchang Rubber and Plastic Products Co., Ltd.

[FR Doc. 2024-02929 Filed 2-12-24; 8:45 am]

BILLING CODE 3510-DS-P